DEPARTMENT OF VETERANS AFFAIRS

Solicitation of Nominations for Appointment to the Veterans' Family, Caregiver and Survivor Advisory Committee

ACTION: Notice.

SUMMARY: The Department of Veterans Affairs (VA) is seeking nominations of qualified candidates to be considered for appointment to the Veterans' Family, Caregiver and Survivor Advisory Committee (hereinafter in this section referred to as “the Committee”).

DATES: Nominations for membership on the Committee must be received no later than 5:00 p.m. EST on June 15, 2023.

ADDRESSES: All nominations should be sent electronically to the Veterans' Family, Caregiver and Survivor email mailbox at vha12cspfac@va.gov with a subject line: Nomination to VFCSAC.

FOR FURTHER INFORMATION CONTACT: Dr. Betty Moseley Brown, Designated Federal Officer, Department of Veterans Affairs, 210-392-2505 or at Betty.MoseleyBrown@va.gov.

SUPPLEMENTARY INFORMATION: The Veterans' Family, Caregiver and Survivor Advisory Committee was established to provide advice to the Secretary of Veterans Affairs with respect to the administration of benefits by the Department of Veterans Affairs (VA) for services to Veterans' families, caregivers and survivors.

Authority: The Committee was established by the directive of the Secretary of VA, in accordance with the provisions of the Federal Advisory Committee Act, as amended, 5 U.S.C. Ch. 10. The Committee responsibilities include providing a report to the Secretary not later than July 1 of each even-numbered year, which includes:

(1) An assessment of the needs, support and services for Veterans' families, caregivers and/or survivors across all generations and service eras;

(2) A review of the programs and activities of the Department designed to meet such needs;

(3) Find and provide opportunities to further integrate Veterans' families, caregivers and survivors into VA's systems of care, including recommendations on how VA can improve and/or expand delivery of Veterans Health Administration, Veterans Benefits Administration and National Cemetery Administration services and benefits; and,

(4) Such recommendations (including recommendations for administrative and legislative action) as the Committee considers appropriate.

Membership Criteria and Qualifications: VA is requesting nominations for Committee membership. The Committee is composed of not more than 20 members and several ex-officio members. The members of the Committee are appointed by the Secretary of Veteran Affairs from the general public, from various sectors and organizations, including but not limited to:

a. Veteran's family members, caregivers and survivors and stakeholders with an interest or expertise in these areas, and other subject matter experts;

b. Caregivers;

c. Veteran-focused organizations;

d. Military history and academic communities;

e. Veteran Service Organizations;

f. Military Service Organizations;

g. National Association of State Directors of Veterans Affairs;

h. Non-profit, private and corporate partners;

i. The Federal Executive Branch;

j. Research experts and service providers; and

k. Leaders of key stakeholder associations and organizations.

In accordance with the Committee Charter, the Secretary shall determine the number (up to 20), terms of service, and pay and allowances of Committee members, except that a term of service of any such member may not exceed two years. The Secretary may reappoint any Committee member for additional terms of service.

To the extent possible, the Secretary seeks members who have diverse professional and personal qualifications including but not limited to subject matter experts in the areas described above. We ask that nominations include any relevant experience information so that VA can ensure diverse Committee membership.

Requirements for Nomination Submission:

Nominations should be typed (one nomination per nominator). Self nominations are acceptable. Nomination package should include:

(1) A letter of nomination that clearly states the name and affiliation of the nominee, the basis for the nomination (i.e. specific attributes which qualify the nominee for service in this capacity) and a statement from the nominee indicating a willingness to serve as a member of the Committee;

(2) The nominee's contact information, including name, mailing address, telephone numbers and email address;

(3) The nominee's curriculum vitae, not to exceed three pages and a one-page cover letter; and

(4) A summary of the nominee's experience and qualifications relative to the membership consideration described above.

Individuals selected for appointment to the Committee shall be invited to serve a two-year term. Committee members will receive per diem and reimbursement for eligible travel expenses incurred.

The Department makes every effort to ensure that the membership of VA Federal advisory committees is diverse in terms of points of view represented and the committee's capabilities. Appointments to this Committee shall be made without discrimination because of a person's race, color, religion, sex, sexual orientation, gender identity, national origin, age, disability or genetic information. Nominations must state that the nominee is willing to serve as a member of the Committee and appears to have no conflict of interest that would preclude membership. An ethics review is conducted for each selected nominee.

Dated: May 17, 2023.
Jelessa M. Burney,
Federal Advisory Committee Management Officer.

[FR Doc. 2023-10878 Filed 5-22-23; 8:45 am]

BILLING CODE P